DEPARTMENT OF THE TREASURY

Internal Revenue Service

26 CFR Parts 1, 301 and 602

[TD 8992]

RIN 1545-AW67

Information Reporting for Payments of Interest on Qualified Education Loans; Magnetic Media Filing Requirements for Information Returns; Correction

AGENCY: Internal Revenue Service (IRS), Treasury.

ACTION: Correction to final regulations.

SUMMARY: This document contains a correction to final regulations (TD 8992) which were published in the Federal Register on Monday, April 29, 2002 (67 FR 20901). The final regulations relate to the information reporting requirements under section 6050S for payments of interest on qualified education loans, including the filing of information returns on magnetic media.

DATES: This correction is effective April 29, 2002.

FOR FURTHER INFORMATION CONTACT: Guy R. Traynor, Regulations Unit, (202) 622-7180 (not a toll-free number).

SUPPLEMENTARY INFORMATION:

Background

The final regulations that are subject to this correction are under section 6050 of the Internal Revenue Code.

Need for Correction

As published, final regulations (TD 8992) contains an error that may prove to be misleading and is in need of clarification.

Correction of Publication

Accordingly, the publication of final regulations (TD 8992), which were the subject of FR Doc. 02-9931, is corrected as follows:

1. On page 20902, column 2, in the preamble, the second line from the bottom of the first full paragraph, the language “regulations (REG-106388-01) under” is corrected to read “regulations (REG-106388-98) under”.

Guy R. Traynor,
Federal Register Certifying Officer, Regulations Unit, Associate Chief Counsel (Income Tax & Accounting).

[FR Doc. 02-13170 Filed 5-29-02; 8:45 am]

BILLING CODE 4830-01-P